DEPARTMENT OF COMMERCE

National Oceanic and Atmospheric Administration

RIN: 0648-XH68

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of The Standing and Special Reef Fish SSCs (SSC).

DATES: The Joint Standing and Special Reef Fish SSC meeting will begin at 1:30 p.m. on Tuesday, May 27, 2008 and conclude by 3 p.m. on Thursday, May 29, 2008.

ADDRESSES: The meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The Joint Standing and Special Reef Fish SSC will meet to review scientific information on the Gulf of Mexico gag and red grouper stocks, and to review draft Reef Fish Amendment 29 dealing with grouper and tilefish effort management. At the April 7-11, 2008 Council meeting, the Council heard an outside review of the gag stock assessment by Dr. Trevor Kenchington, Gadus Associates, in which it was suggested that overfishing of gag had ended in 2006. The Council also heard a review of the assessment from the Southeast Fisheries Science Center (SEFSC), along with updated indices of abundance which suggested that, after peaking in 2004, the gag and red grouper stock levels are again declining. The SSC will review and discuss the information from Dr. Kenchington and the SEFSC, and will advise the Council with regard to recent trends in abundance of gag and red grouper, current estimates of spawning stock biomass (SSB), current estimates of natural mortality, the extent to which reduced effort and/or reduced SSB are contributing to a reduction in landings, and recommendations for appropriate catch levels. The SSC will also review the appropriate baseline to use when determining percent reductions needed in harvest. If time permits, the SSC will also review a red grouper yield per recruit analyses which was prepared last fall by the SEFSC but has not yet been reviewed by the SSC.

The SSC will also review the alternatives in draft Reef Fish Amendment 29. This Amendment proposes to rationalize effort and reduce overcapacity in the commercial Gulf of Mexico grouper and tilefish fisheries in order to achieve and maintain optimum yield. Approaches being considered include permit endorsements and individual fishing quotas.

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) at least 5 working days prior to the meeting.

Dated: May 1, 2008.
Tracey L. Thompson,
Acting Director, Office of Sustainable Fisheries, National Marine Fisheries Service.

[FR Doc. E8-9913 Filed 5-5-08; 8:45 am]

BILLING CODE 3510-22-S